DEPARTMENT OF DEFENSE

Department of the Army

Performance Review Board Membership

AGENCY: Department of the Army, DoD.

ACTION: Notice.

SUMMARY: Notice is given of the names of members of a Performance Review Board for the Department of the Army.

DATES: September 21, 2004.

FOR FURTHER INFORMATION CONTACT: Marilyn Ervin, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the North Atlantic Treaty Organization, Army element are:

1. Mr. Alfred G. Volkman, Director, International Cooperations, Office of the Under Secretary of Defense, Acquisition, Technology and Logistics.

2. Mr. Barry Pavel, Principal Director for Strategy, Office of the Secretary of Defense.

3. Mr. James J. Townsend, Principal Director for European and North Atlantic Treaty Organization Policy.

Brenda Bowen,
Army Federal Register Liaison Officer.

[FR Doc. 04-21992 Filed 9-29-04; 8:45 am]

BILLING CODE 3710-08-M